DEPARTMENT OF THE INTERIOR

Fish and Wildlife Service

National Park Service

[FWS-R6-R-2013-N021; FXRS1265066CCP0-134-FF06R06000]

Niobrara Confluence and Ponca Bluffs Conservation Areas, NE and SD; Draft Environmental Impact Statement and Land Protection Plan; Request for Public Comments

AGENCY: Fish and Wildlife Service, National Park Service, Interior.

ACTION: Notice of availability.

SUMMARY: We, U.S. Fish and Wildlife Service (FWS) and the National Park Service (NPS), as lead agencies, announce the availability of a draft environmental impact statement (DEIS) and land protection plan (LPP) for the proposed Niobrara Confluence Conservation Area and Ponca Bluffs Conservation Area in Nebraska and South Dakota for public review and comment. In these documents, we describe alternatives, including our proposed action, for implementing conservation actions along the Missouri River and its tributaries. We are furnishing this notice in compliance with the National Wildlife Refuge System Administration Act of 1966, as amended, the National Park Service Organic Act of 1916, as amended, and the National Environmental Policy Act to advise other agencies, Tribal governments, and the public of our intentions to provide the opportunity for public review and comment on the DEIS and LPP.

DATES: To ensure consideration, please send your written comments by June 14th, 2013. We will announce upcoming public meetings in local news media, on our Web site, and by mail.

ADDRESSES: You may submit your comments or a request for copies (hard copies or a CD-ROM) or more information by any of the following methods:

Agency Web site: http://parkplanning.nps.gov/niob-ponca.

Email: niobrara_ponca@fws.gov.

In-Person Viewing or Pickup: Call (605) 665-0209 to make an appointment during regular business hours at Missouri River National Recreational River Headquarters, 508 East 2nd Street, Yankton, SD 57078.

Mail: Nick Kaczor, USFWS, Division of Refuge Planning, P.O. Box 25486, DFC, Denver, CO 80225.

FOR FURTHER INFORMATION CONTACT: Nick Kaczor, Planning Team Leader, at (303) 236-4387, or by mail at Division of Refuge Planning, USFWS, P.O. Box 25486, DFC, Denver, CO 80225.

SUPPLEMENTARY INFORMATION:

Introduction

With this notice, we continue the LPP process for the proposed Niobrara Confluence and Ponca Bluffs Conservation Areas. We started this process through a notice in the Federal Register (77 FR 8892, February 15, 2012).

The proposed Niobrara Confluence and Ponca Bluffs Conservation Areas are partnership-based projects being taken on by the U.S. Fish and Wildlife Service and National Park Service, to build upon existing conservation efforts along the Missouri River in northeast Nebraska and southeast South Dakota. This proposal aims to work with willing private landowners, local communities, and other conservation entities to conserve important wildlife habitats, increase quality recreational opportunities, preserve sensitive historical sites, and maintain sustainable ranching operations.

The Missouri River

The Missouri River is the artery to America's heartland, coursing its way through the scenic landscapes of the Great Plains to the Eastern deciduous forest. It drains one-sixth of the United States and encompasses over 500,000 square miles, flowing 2,341 miles from its headwaters in western Montana to where it joins the Mississippi River, at St. Louis, Missouri. It is home to thousands of fish, wildlife, and plants, while providing unlimited recreational opportunities for its visitors. Visitors can also experience scenic bluffs, forests, grasslands, and traditional rural lifestyles critical to the local communities.

Niobrara Confluence

The Niobrara Confluence segment between Fort Randall Dam and Lewis and Clark Lake is one of the last portions of the middle Missouri River that remains unchannelized, relatively free-flowing, and undeveloped. This area of the Missouri River's main channel in the old, wider river valley contains important habitat for at least 60 native and 26 sport fish. In addition, the riparian woodlands and island complexes are important for approximately 25 year-round bird species and 115 species of migratory birds, including piping plovers, least terns, and bald eagles.

Ponca Bluffs

The Ponca Bluffs segment between Gavins Point Dam and Sioux City is a diverse, relatively unaltered riverine/floodplain ecosystem characterized by a main channel, braided channels, wooded riparian corridor, pools, chutes, sloughs, islands, sandbars, backwater areas, wetlands, natural floodplain and upland forest communities, pastureland, and croplands. This area also supports a wide variety of wildlife and fisheries resources similar to those found in the Niobrara Confluence segment.

The Concept

We are proposing to work with willing landowners to conserve valuable recreational, natural, scenic, and historical resources. By combining agency resources and working together with other conservation efforts like the Natural Resource Conservation Service's Wetland Reserve Program, we hope to maintain a legacy for future generations. Our personnel and technical resources in each agency's various programs will help improve the delivery of actions outlined in this plan. The concept of this project is to combine agency resources to enhance conservation; enhance recreation; increase tourism; instill new money into local economies; improve quality of life through healthy air, water, and ecosystems; and increase the appreciation and awareness of the natural resources.

This would be achieved by purchasing conservation easements from willing landowners or the use of fee-title acquisition. Fee-title acquisition could be used when rehabilitation is needed to improve the ecological function of the river by allowing a more natural meander, or when extensive public access is anticipated.

Conservation Easements

We recognize that the preservation of working landscapes such as farms and rangeland through easement acquisition is more cost effective, socially acceptable, and politically popular than fee title acquisition, while still effectively promoting the preservation of unfragmented quality habitat. Conservation easements provide a unique tool for agencies to use in partnership with willing landowners. Easements allow the land to stay in private ownership and on the local tax rolls while still providing the greater American public lifelong conservation value. The alternatives outlined in the plan (B-C) allow for a greater use of easements (80 percent) over more traditional fee title acquisition. With easement acquisitions, landowners will be compensated for perpetually conserving their property in a native state, and in turn will have funds available to use for investment in the local communities.

The purpose of the easements would be to promote native grasses, shrubs, and trees; eliminate or reduce invasive species such as eastern red cedars; and protect culturally or tribally significant sites. All easement conditions would be mutually agreed upon by the landowner and us.

Priorities

We developed this draft conservation plan by focusing on the overall ecological function of the Missouri River. We identified areas that are important for native fish and wildlife species such as bald eagles and pallid sturgeon. In addition, we prioritized areas that increase access to the river, conserve scenic areas such as chalkstone bluffs, and maintain historically significant sites.

Public Availability of Comments

Before including your address, phone number, email address, or other personal identifying information in your comment, you should be aware that your entire comment, including your personal identifying information, may be made publicly available at any time. While you can ask us in your comment to withhold your personal identifying information from public review, we cannot guarantee that we will be able to do so.

Authorities

The FWS and NPS are furnishing this notice in compliance with the National Wildlife Refuge System Administration Act of 1966 (16 U.S.C. 668dd-668ee) (Administration Act), as amended by the National Wildlife Refuge System Improvement Act of 1997; the National Park Service Organic Act of 1916 (16 U.S.C. l et seq.), and amendments thereto, and the National Environmental Policy Act (42 U.S.C. 4321 et seq.) and its implementing regulations.

Dated: Feb 21, 2013.
Michael Reynolds,
Midwest Regional Director, National Park Service.
Dated: Feb 26, 2013.
Matt Hogan,
Acting, Regional Director, Mountain Prairie Region, U.S. Fish and Wildlife Service.

[FR Doc. 2013-08105 Filed 4-5-13; 8:45 am]

BILLING CODE 4310-55-4312-51-P